DEPARTMENT OF ENERGY

Federal Energy Regulatory Commission

[Docket No. RP01-359-000]

Dominion Transmission, Inc.; Notice of Proposed Changes in FERC Gas Tariff

April 4, 2001.

Take notice that on March 30, 2001, Dominion Transmission, Inc. (DTI), tendered for filing as part of its FERC Gas Tariff, Third Revised Volume No. 1, Eighth Revised Sheet No. 32, with an effective date of May 1, 2001.

DTI states that the purpose of this filing is to remove the surcharge established under Section 18.2.B. of the General Terms and Conditions of DTI's FERC Gas Tariff, effective as of May 1, 2001. As stated in its last quarterly Stranded Cost Filing in Docket No. RP00-234-000, dated March 31, 2000, DTI's transportation contracts responsible for stranded costs have expired. DTI will file supporting workpapers detailing a reconciliation of costs and recoveries within 45 days. The effect on DTI's rates is to decrease the reservation-related charges for firm transportation service by $0.0217 per Dt.

DTI states that copies of this letter of transmittal and enclosures are being mailed by DTI to DTI's customers and interested state commissions.

Any person desiring to be heard or to protest said filing should file a motion to intervene or a protest with the Federal Energy Regulatory Commission, 888 First Street, NE., Washington, DC 20426, in accordance with §§ 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8792 Filed 4-09-01; 8:45 am]

BILLING CODE 6717-01-M